FEDERAL COMMUNICATIONS COMMISSION

Notice of Public Information Collection(s) Being Reviewed by the Federal Communications Commission, Comments Requested

September 2, 2010.

SUMMARY: The Federal Communications Commission, as part of its continuing effort to reduce paperwork burden invites the general public and other Federal agencies to take this opportunity to comment on the following information collection(s), as required by the Paperwork Reduction Act (PRA) of 1995, 44 U.S.C. 3501 - 3520. Comments are requested concerning: (a) whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology, and (e) ways to further reduce the information collection burden on small business concerns with fewer than 25 employees.

The FCC may not conduct or sponsor a collection of information unless it displays a currently valid control number. No person shall be subject to any penalty for failing to comply with a collection of information subject to the Paperwork Reduction Act (PRA) that does not display a currently valid OMB control number.

DATES: Written Paperwork Reduction Act (PRA) comments should be submitted on or before November 8, 2010. If you anticipate that you will be submitting PRA comments, but find it difficult to do so within the period of time allowed by this notice, you should advise the FCC contact listed below as soon as possible.

ADDRESSES: Direct all PRA comments to Nicholas A. Fraser, Office of Management and Budget, via fax at 202-395-5167 or via the Internet at Nicholas_A._Fraser@omb.eop.gov and to the Federal Communications Commission via email to PRA@fcc.gov.

FOR FURTHER INFORMATION CONTACT: Judith B. Herman, Office of Managing Director, (202) 418-0214. For additional information, contact Judith B. Herman, OMD, 202-418-0214 or email judith-b.herman@fcc.gov.

SUPPLEMENTARY INFORMATION: OMB Control Number: 3060-0971.

Title: Section 52.15, Request for “For Cause” Audits and State Commission's Access to Numbering Resource Application Information.

Form No.: N/A.

Type of Review: Extension of a currently approved collection.

Respondents: Business or other for-profit.

Number of Respondents and Responses: 2,105 respondents; 63,015 responses.

Estimated Time Per Response: .1667 hours - 3 hours.

Frequency of Response: On occasion reporting requirement and third party disclosure requirement.

Obligation to Respond: Required to obtain or retain benefits. Statutory authority for this information collection is contained in 47 U.S.C. sections 153, 154, 201-205, 207-209, 218, 225 - 227, 251-252, 271 and 332.

Total Annual Burden: 10,515 hours.

Total Annual Cost: N/A.

Privacy Act Impact Assessment: N/A.

Nature and Extent of Confidentiality: The Commission requires state commissions to treat carriers' applications for initial or growth numbering resources as well as their forecast and utilization data as confidential. Carrier numbering resource applications and audits of carrier compliance will be treated as confidential and will be exempt from public disclosure under 5 U.S.C. 552(b)(4). In those instances where a state “open records” statute prevents the state from providing confidential protection for such sensitive carrier information the Commission will work with the state commission to enable it to obtain access to such information in a manner that addresses the state's need for this information and also protects the confidential nature of the carrier's sensitive information.

Needs and Uses: The Commission will submit this expiring information collection to the Office of Management and Budget (OMB) after this comment period to obtain the full three year clearance from them. There is no change in the reporting and/or third party disclosure requirements.

To ensure that the numbering resources of the North American Numbering Plan are used efficiently, the Commission authorized “for cause” audits as part of its comprehensive audit plan to verify carrier compliance with Federal rules, under 47 CFR 52.15, and orders and industry guidelines. It also provided state commissions with access to copies of carrier's applications for numbering resources. To request a “for cause” audit, the North American Numbering Plan Administrator (NANPA), the Pooling Administrator or a state commission must draft a request to the auditor stating the reason for the request, such as misleading or inaccurate data, and attach supporting documentation. Requests for copies of carriers' applications for numbering resources are made directly to the carriers by the state commissions.

The information collected will be used by the FCC, state commissions, and NANPA and the Pooling Administrator to verify the validity and accuracy of carrier data and to assist state commissions in carrying out their numbering responsibilities, such as area code relief.

Federal Communications Commission.
Marlene H. Dortch,
Secretary,
Office of the Secretary,
Office of Managing Director.

[FR Doc. 2010-22466 Filed 9-8-10; 8:45 am]

BILLING CODE 6712-01-S